DEPARTMENT OF COMMERCE

National Oceanic and Atmospheric Administration

Proposed Information Collection; Comment Request; Atlantic Highly Migratory Species Permit Family of Forms

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 18, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Dianne Stephan, National Marine Fisheries Service (NMFS), Highly Migratory Species Management Division, 1 Blackburn Drive, Gloucester, MA 01930 (phone (978) 281-9397).

SUPPLEMENTARY INFORMATION:

I. Abstract

Under the provisions of the Magnuson-Stevens Fishery Conservation and Management Act (16 U.S.C. 1801 et seq.), the National Oceanic and Atmospheric Administration's National Marine Fisheries Service (NMFS) is responsible for management of the Nation's marine fisheries. In addition, NMFS must comply with the United States' obligations under the Atlantic Tunas Convention Act of 1975 (16 U.S.C. 971 et seq.). NMFS permits fishing vessels and dealers in order to collect the information necessary to comply with domestic and international obligations, secure compliance with regulations, and disseminate necessary information.

Current regulations at 50 CFR part 635.4 require that vessels participating in commercial and recreational fisheries for highly migratory species (HMS), dealers purchasing Atlantic HMS from a vessel, and dealers importing or exporting bluefin tuna or importing swordfish obtain a permit from NMFS. A final rule which will go into effect on July 1, 2005, (69 FR 67268, November 17, 2004) will also require the HMS International Trade Permit (ITP) for international trade of frozen bigeye tuna, southern bluefin tuna, and export of swordfish.

This action addresses the renewal of permit applications currently approved under 0648-0327, including vessel permits for Atlantic tunas, HMS charter/headboats, and HMS angling, and the HMS ITP. In addition, vessel permits for swordfish (directed, incidental, and hand gear) and sharks (directed and incidental) currently approved under collection 0648-0205 will be merged into this collection and renewed; dealer permits for sharks and swordfish currently approved under collection 0648-0205 will be merged into this collection and renewed; and dealer permits for Atlantic tunas, currently approved under collection 0648-0202 will be merged into this collection and renewed.

II. Method of Collection

Applications for Atlantic Tunas, HMS Angling, and HMS Charter/Headboat Vessel Permits may be submitted online at www.nmfspermits.com, mailed, or faxed. All other applications including dealer permits and other vessel permits must be mailed.

III. Data

OMB Number: 0648-0327.

Form Number: None.

Type of Review: Regular submission.

Affected Public: Business or other for-profit organizations (vessel owners and dealers).

Estimated Number of Respondents: 45,520.

Estimated Time Per Response: 5 minutes for the HMS ITP Application, initial and renewal of Shark and Swordfish Dealer Permit Applications, and renewal of Atlantic Tunas Dealer Permit Application; 6 minutes for renewal application for the following vessel permits: Atlantic Tunas, HMS Charter/Headboat, and HMS Angling; 15 minutes for initial Atlantic Tunas Dealer Permit Application; 20 minutes for initial and renewal of Shark and Swordfish Vessel Permit Applications; and 30 minutes for initial applications for the following vessel permits: Atlantic Tunas, HMS Charter/Headboat, and HMS Angling.

Estimated Total Annual Burden Hours: 5,506.

Estimated Total Annual Cost to Public: $1,477,988.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 11, 2005.
Gwellnar Banks,
Management Analyst, Office of the Chief Information Officer.

[FR Doc. 05-3037 Filed 2-16-05; 8:45 am]

BILLING CODE 3510-22-P